FEDERAL EMERGENCY MANAGEMENT AGENCY

Privacy Act of 1974: Cerro Grande Fire Assistance Claim Files

AGENCY: Federal Emergency Management Agency (FEMA).

ACTION: Notice of a new system of records.

SUMMARY: In accordance with the Privacy Act of 1974 (5 U.S.C. 552a), we (FEMA) give notice that we are establishing a new system of records under the authority of the Cerro Grande Fire Assistance Act, Public Law 106-246. This system of records will enable us to register claims, verify information provided by claimants, make determinations for compensation, and process and evaluate appeals as required by the Cerro Grande Fire Assistance Act.

DATES: This new system of records takes effect August 28, 2000. We will accept public comments until September 28, 2000.

ADDRESSES: We invite your comments on this system of records. Please address them to the Rules Docket Clerk, Office of the General Counsel, Federal Emergency Management Agency, room 840, 500 C Street, SW., Washington, DC 20472, (telefax) (202) 646-4536, or (email) rules@fema.gov.

FOR FURTHER INFORMATION CONTACT: Sandra Jackson, FOIA/Privacy Act Specialist, Federal Emergency Management Agency, room 840, 500 C Street, SW., Washington, DC 20472, (202) 646-3840, (telefax) (202) 646-4536, or (email) Sandra.Jackson@fema.gov.

SUPPLEMENTARY INFORMATION: We are establishing a claims control and management system to maintain information about injured persons who have filed claims under the Cerro Grande Fire Assistance Act, Public Law 106-246. The Congress enacted the statute to compensate victims of the Cerro Grande fire that occurred in New Mexico in May 2000. On May 4, 2000, the National Park Service of the Department of the Interior initiated a prescribed burn at Bandelier National Monument in New Mexico. Within twenty-four hours, the prescribed burn grew out of control and turned quickly into a wildfire (also referred to as the Cerro Grande fire) consuming both Federal and non-Federal land. The fire caused evacuations in the Los Alamos, New Mexico area. Damage from the fire was extensive, resulting in the loss of Federal, State, local, tribal, and private property. The Secretary of the Interior and the National Park Service assumed responsibility for the fire and for the resulting property damage.

The Cerro Grande Fire Assistance Act provides for the expeditious consideration and settlement of claims for injuries suffered as a result of the fire. Under the statute, the Congress charged FEMA with establishing and administering the Office of Cerro Grande Fire Claims to handle claims from persons injured as a result of the fire.

This system of records will maintain information regarding claims filed by injured persons under the statute. It will consist of computerized files and paper records retrieved by name, address, and claim number.

Accordingly, we add FEMA/CGC-1, of the FEMA Privacy Act systems of records to read as follows:

SYSTEM NAME:

FEMA/CGC-1, Cerro Grande Fire Assistance Act Claim Files.

SECURITY CLASSIFICATION:

Unclassified.

SYSTEM LOCATION:

Cerro Grande Fire Assistance Claims Office, New Mexico.

CATEGORIES OF INDIVIDUALS COVERED BY THE SYSTEM:

Injured parties claiming compensation for injury to person, property, and economic losses resulting from the Cerro Grande fire of May 2000, and subrogees of such injured parties.

CATEGORIES OF RECORDS IN THE SYSTEM:

(a) Records of claims include names, addresses, telephone numbers, nature and amount of claim, insurance coverage information, and evidence to support claim for the purpose of receiving compensation.

(b) Inspection and appraisal reports containing identification information relating to the claim and results of survey of damaged property and goods.

(c) Supporting medical documentation.

(d) Notice of Loss forms, Proof of Loss forms, documents from other agencies relating to the claim, general administrative and fiscal information, payment schedules, and disposition of claims, general correspondence, including requests for disbursement of payments, contracts, leases, estimates for repair or replacement of fire damaged/ destroyed residence or business.

(e) Claim decisions and appeals.

AUTHORITY FOR MAINTENANCE OF THE SYSTEM:

Cerro Grande Fire Assistance Act, P.L. 106-246, 106th Congress, 2d Session (2000), 114 Stat. 511, 584.

PURPOSE:

To register claims, evaluate and verify information provided by claimants, inspect damaged property, make determinations for compensation, and make determinations on claims relating to reasonable mitigation efforts which reduce the risk of wildfire, flood, or other natural disaster in the affected counties.

ROUTINE USES RECORDS MAINTAINED IN THE SYSTEM, INCLUDING CATEGORIES OF USERS AND THE PURPOSES OF SUCH ACTS:

The Privacy Act permits us to disclose information about individuals without their consent for a routine use, i.e., when the information will be used for a purpose that is compatible with the purpose for which we collected the information. The routine uses of this system are:

(a) Disclosure may be made to agency contractors who have been engaged to assist the agency in the performance of a contract service related to this system of records and who need to have access to the records in order to perform the activity. Recipients must comply with the requirements of the Privacy Act of 1974, as amended, 5 USC 552a.

(b) Disclosure may be made to a member of Congress or to a Congressional staff member in response to an inquiry of the Congressional office made at the written request of the constituent about whom the record is maintained.

(c) Disclosure may be made to other Federal agencies that FEMA has determined provided Cerro Grande fire-related assistance to claimant in order to ensure that benefits are not duplicated.

(d) Disclosure of information submitted by an individual Claimant may be made to an insurance company or other third party that has submitted a subrogation claim relating to such Claimant when it is necessary in FEMA's opinion to ensure that benefits are not duplicated and to efficiently coordinate the processing of claims brought by individuals and subrogees.

(e) Disclosure of property loss information may be made to local governments in Los Alamos, Rio Arriba, Sandoval and Santa Fe counties and the Pueblos of San Ildefonso and Santa Clara for the purpose of preparing community-wide mitigation plans.

(f) When a record on its face, or in conjunction with other records, indicates a violation or potential violation of law, whether civil, criminal or regulatory in nature, and whether arising by general statute or particular program statute, or by regulation, rule, or order issued pursuant thereto, disclosure may be made to the appropriate agency, whether Federal, foreign, State, local, or tribal or other public authority responsible for enforcing, investigating or prosecuting such violation or charged with enforcing or implementing the statute, or rule, regulation, or order issued pursuant thereto, if the information disclosed is relevant to any enforcement, regulatory, investigative or prosecutive responsibility of the receiving entity.

(g) Disclosure may be made to the National Archives and Records Administration for the purpose of conducting records management studies under the authority of 44 U.S.C. 2904, and 2906.

DISCLOSURE TO CONSUMER REPORTING AGENCIES:

Disclosures under 5 U.S.C. 552a (b)(12): Disclosures may be made from this system to “consumer reporting agencies” as defined in the Fair Credit Reporting Act, 15 U.S.C. 1681a(f).

POLICIES AND PRACTICES FOR STORING, RETRIEVING, ACCESSING, RETAINING, AND DISPOSING OF RECORDS IN THE SYSTEM:

Storage: Records in this system are stored in magnetic media (e.g., computer hard drives and computer disks) and on paper. Paper printouts of these data are made when required for study. The system may also contain photocopies of numerous documents and records, which are filed in appropriate file folders.

Retrievability: By name, address, and claim number.

Safeguards: We will employ a number of security measures to minimize the risk of unauthorized access to or disclosure of personal data in the proposed system. These measures include the use of passwords and access codes to enter the computer system which will maintain the data, and storage of the computerized records and paper records in secured areas that are accessible only to employees who require the information in performing their official duties. Paper documents are stored either in lockable file cabinets within locked rooms or in otherwise secured areas. In addition, we will require contract employees to comply with the safeguards that must be followed to protect the data.

Retention and Disposal: The files are maintained at the Cerro Grande Fire Assistance Claims Office until completion of a claim. After such time, the files will be transferred to FEMA, 500 C Street, SW., Washington, DC for three years, and then they will be transferred to the appropriate Federal Records Center for seven years until they are destroyed. Means of disposal are appropriate to the storage medium (e.g., erasure of disks, shredding of paper records, etc.)

SYSTEM MANAGER(S) AND ADDRESSES:

Director of the Cerro Grande Fire Assistance Claims Office, New Mexico; and FEMA, room 840, 500 C Street, SW., Washington, DC 20472.

NOTIFICATION PROCEDURES:

An individual can find out whether this system of records contains information about him/her by writing to the system manager at the address shown above and providing his/her name and address. Inquiries should be addressed to the System Manager. Written requests should be clearly marked, “Privacy Act Request” on the envelope and letter. Include full name, some type of appropriate personal identification, and current address.

When requesting notification of records in person, the individual should be able to provide some acceptable identification, such as a driver's license, passport, employing office's identification card, military identification card, student identification card or other identification data.

RECORDS ACCESS PROCEDURES:

Same as notification procedures described above. Individuals requesting access to their records should also reasonably describe the record(s) they are seeking.

CONTESTING RECORDS PROCEDURE:

Same as notification procedures described above. Individuals contesting the contents of a record in the system should also reasonably describe the record(s), specify the information being contested, and state the corrective action sought with supporting justification showing how the record is untimely, incomplete, inaccurate, or irrelevant. FEMA Privacy Act regulations are located at 44 C.F.R. Part 6.

RECORD SOURCE CATEGORIES:

Information in this system is obtained from claimants seeking compensation under the Cerro Grande Fire Assistance Act, P.L. 106-246, attorneys, claims adjusters, inspectors and appraisers, insurance companies, medical officials, and Federal, State, and local agencies.

SYSTEM EXEMPTIONS FROM CERTAIN PROVISIONS OF THE ACT:

None.

Dated: August 23, 2000.
James L. Witt,
Director.

[FR Doc. 00-21927 Filed 8-25-00; 8:45 am]

BILLING CODE 6718-01-P